DEPARTMENT OF THE INTERIOR

National Park Service

36 CFR Part 7

Change in Public Meeting Dates of the Negotiated Rulemaking Advisory Committee for Off-Road Driving Regulations at Fire Island National Seashore

AGENCY: National Park Service, Interior.

ACTION: Notice of change in meeting dates.

SUMMARY: Notice is hereby given in accordance with the Federal Advisory Committee Act (Pub. L. 92-463, 86 Stat. 770, 5 U.S.C. App1, Section 10), of meetings of the Negotiated Rulemaking Advisory Committee for Off-Road Driving Regulations at Fire Island National Seashore (36 CFR 7.20).

DATES: The Committee meeting scheduled for September 13-14, 2002, published in the Federal Register on May 6, 2002 (67 FR 30338), is cancelled and rescheduled for November 2002. Place, date, time and agenda will be announced in the Federal Register no less than 15 days prior to the meeting.

FOR FURTHER INFORMATION CONTACT: Barry Sullivan, Acting Superintendent, Fire Island National Seashore, 120 Laurel Street, Patchogue, NY 11772. Telephone (631) 289-4810, extension 221.

SUPPLEMENTARY INFORMATION: Due to unintentional mis-routing of this notice during a National Park Service move, the notice could not be published at least 15 days prior to the meeting dates. The National Park Service regrets this error, but is compelled to cancel the meetings since attempting to reconvene the meetings would cause undue hardship and scheduling conflicts for committee members. Since the cancellation has received prior widespread publicity in area news media and among the parties most affected, the National Park Service believes that the public interest will not be adversely affected by the less-than-15-days advance notice in the Federal Register.

The Committee was established pursuant to the Negotiated Rulemaking Act of 1990 (5 U.S.C. 561-570). The purpose of the Committee is to advise the National Park Service with regard to proposed rulemaking governing off-road vehicle use at Fire Island National Seashore. Notice of intent to establish this committee was published in 65 FR 70674, November 27, 2000.

Dated: September 5, 2002.
P. Daniel Smith,
Special Assistant to the Director, National Park Service.

[FR Doc. 02-23008 Filed 9-9-02; 8:45 am]

BILLING CODE 4310-70-P